DEPARTMENT OF AGRICULTURE

Forest Service

Notice of Lincoln County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Kootenai National Forest's Lincoln County Resource Advisory Committee will meet on Tuesday, June 28, 2016 at 6:00 p.m. at the Forest Supervisor's Office in Libby, Montana for a business meeting. The meeting is open to the public.

DATE: June 28, 2016

ADDRESSES: Forest Supervisor's Office, 31374 U.S. Hwy. 2, Libby, Montana.

FOR FURTHER INFORMATION CONTACT: JeriAnn Chapel, Committee Coordinator, Kootenai National Forest at (406) 283-7643, or email jchapel@fs.fed.us.

SUPPLEMENTARY INFORMATION: Agenda will include a review and vote on project proposals. If the meeting date or location is changed, notice will be posted in the local newspapers, including the Missoulian, based in Missoula, Montana.

Dated: May 31, 2016.
Christopher Savage,
Forest Supervisor.

[FR Doc. 2016-13868 Filed 6-10-16; 8:45 am]

BILLING CODE 3411-15-P